DEPARTMENT OF LABOR

Employment and Training Administration

[TA-W-63,617]

Comprehensive Logistic, Inc., Including Leased Workers of Source Providers, Inc., Youngstown, Ohio; Notice of Termination of Investigation

Pursuant to Section 221 of the Trade Act of 1974, as amended, an investigation was initiated on June 30, 2008, in response to a worker petition filed by a company official on behalf of workers of Comprehensive Logistics, Inc., including leased workers of Source Providers, Inc. employed on-site at the Ford Motor Company, Louisville Assembly Plant, Vehicle Operations Division, Louisville, Kentucky.

The petitioning group of workers is covered by an active certification, (TA-W-62,214 as amended) which expires on November 8, 2009. Consequently, further investigation in this case would serve no purpose, and the investigation has been terminated.

Signed at Washington, DC, this 31st day of July 2008.
Richard Church,
Certifying Officer, Division of Trade Adjustment Assistance.

[FR Doc. E8-18585 Filed 8-11-08; 8:45 am]

BILLING CODE 4510-FN-P